DEPARTMENT OF TRANSPORTATION

Federal Highway Administration

Notice of Availability Regarding a Record of Decision for the Virginia Avenue Tunnel Reconstruction Project in Washington, DC

AGENCY: Federal Highway Administration (FHWA), DOT.

ACTION: Notice of Availability Regarding a Record of Decision (ROD) for the Virginia Avenue Tunnel Reconstruction Project in Washington, DC.

SUMMARY: In accordance with the National Environmental Policy Act (NEPA) and Federal Highway Administration (FHWA) procedures, this notice announces the availability of the ROD regarding the Virginia Avenue Tunnel Reconstruction Project in Washington, DC The Division Administrator, FHWA-District of Columbia signed the ROD on November 4, 2014.

ADDRESSES: The FHWA ROD for the Virginia Avenue Reconstruction Project can be viewed and downloaded from the project Web site at http://www.virginiaavenuetunnel.com or viewed at the following locations: Southeast Neighborhood Library, 403 7th Street SE., Washington, DC 20003; or the Southwest Neighborhood Library, 900 Wesley Place SW., Washington, DC 20024.

FOR FURTHER INFORMATION CONTACT: Mr. Michael Hicks, Environmental/Urban Engineer, 1990 K Street, Suite 510, Washington, DC 20006-1103, (202) 219-3513; email: Michael.Hicks@dot.gov. The FHWA District of Columbia Division normal business hours are 8 a.m. to 4:30 p.m. (Eastern Time). You may also contact Mr. Faisal Hameed, Deputy Chief Engineer, Project Development & Environment, Infrastructure Project Management Administration (IPMA), District Department of Transportation, 55 M Street SE., Suite 500, Washington, DC 20003; telephone: 202-671-2326; email: Faisal.Hameed@dc.gov. The District Department of Transportation normal business hours are 8:15 a.m. to 4:45 p.m.

SUPPLEMENTARY INFORMATION: The Virginia Avenue Tunnel Reconstruction Project ROD was developed through preparation of the Final Environmental Impact Statement for the Virginia Avenue Tunnel Reconstruction Project in the District of Columbia. CSX Transportation, Inc. (CSX), the owner of the Virginia Avenue Tunnel, requested approval from FHWA to allow the short-term closure of I-695 ramps located at 6th and 8th Streets SE and occupancy of a portion of the 11th Street Bridge right-of-way located on Interstate 695 (I-695) to allow the reconstruction of the Virginia Avenue Tunnel. The tunnel is located in the Capitol Hill neighborhood of Washington, DC beneath eastbound Virginia Avenue SE. from 2nd Street SE. to 9th Street SE.; Virginia Avenue Park between 9th and 11th Streets; and the 11th Street Bridge right-of-way. The tunnel is also aligned on the south side of I-695. The final agency actions documented in the FHWA Record of Decision (ROD) were taken in full consideration of the information presented in the Draft Environmental Impact Statement approved on July 2, 2013, the Final Environmental Impact Statement approved on June 5, 2014, public and agency comments, and in other documents in the FHWA administrative record. The final agency actions also considered the DEIS public hearing held on July 31, 2013; and public meetings held on September 14, 2011, November 30, 2011, May 21, 2012, September 27, 2012, July 1, 2014 and July 31, 2014.

Authority: 23 CFR 771.127; 49 CFR 1.81, 1.85.

Issued On: November 4, 2014.
Joseph C. Lawson,
Division Administrator, District of Columbia.

[FR Doc. 2014-26622 Filed 11-12-14; 8:45 am]

BILLING CODE P